DEPARTMENT OF COMMERCE

National Oceanic and Atmospheric Administration

50 CFR Part 660

[I.D. 052802C]

Western Pacific Fishery Management Council; Public Meetings

AGENCY: National Marine Fisheries Service (NMFS), National Oceanic and Atmospheric Administration (NOAA), Commerce.

ACTION: Notice of public meetings/public hearings.

SUMMARY: The Western Pacific Fishery Management Council (Council) will meet in June (see SUPPLEMENTARY INFORMATION for specific times, dates, and agenda items).

ADDRESSES: The Council meeting will be held at the American Samoa Convention Center, Pago Pago, American Samoa 96799; telephone: 684-633-5155; FAX: (684)633-4195.

FOR FURTHER INFORMATION CONTACT: Kitty M. Simonds, Executive Director; telephone: 808-522-8220.

SUPPLEMENTARY INFORMATION:

Dates and Locations

Public Hearings

Public hearings will be held at 4 p.m. on Tuesday, June 25, 2002, for final action on revisions to the comprehensive Sustainable Fisheries Act (SFA) amendment that will define overfishing for the pelagic, bottomfish, and crustacean fisheries; at 11 a.m. on Wednesday, June 26, 2002, for final action on American Samoa limited entry options; and at 3 p.m. for final action on adjustments to the Northwestern Hawaiian Islands (NWHI) bottomfish annual landing requirements.

Committee Meetings

The following Standing Committees of the Council will meet on June 24, 2002. Enforcement/Vessel Monitoring System (VMS) from 8 a.m. to 10 a.m.; Fishery Rights of Indigenous People from 9 a.m. to 10 a.m.; International Fisheries/Pelagics from 10 a.m. to 12 noon; Precious Corals from 1:30 p.m. to 2:30 p.m.; Crustaceans from 1:30 p.m. to 2:30 p.m.; Bottomfish from 2:30 p.m. to 4:30 p.m; Ecosystem and Habitat from 2:30 p.m. to 4:30 p.m.; and Executive/Budget and Program from 4:30 p.m. to 5:30 p.m.

In addition, the Council will hear recommendations from its plan teams, SSC, and other ad hoc groups. Public comment periods will be provided throughout the agenda. The order in which agenda items are addressed may change. The Council will meet as late as necessary to complete scheduled business.

The agenda during the full Council meeting will include the items listed here:

1. Introductions

2. Approval of agenda

3. Approval of 112th meeting minutes

4. Island reports

A. American Samoa

B. Guam

C. Hawaii

D. Commonwealth of the Northern Mariana Islands

5. Federal fishery agency and organization reports

A. Department of Commerce

(1) NMFS

(a) Southwest Region, Pacific Islands Area Office (PIAO)

(b) Southwest Fisheries Science Center, La Jolla and Honolulu Laboratories

(2) NOAA General Counsel, Southwest Region

(3) National Ocean Service Fagateli Bay National Marine Sanctuary

B. Department of the Interior/U.S. Fish and Wildlife Service

C. U.S. State Department

6. Enforcement/Vessel monitoring systems

A. Report on U.S. Coast Guard activities in American Samoa

B. Report on NMFS activities in American Samoa

C. New and developing surveillance technology

D. Status of violations

7. Overview of crustacean fisheries in American Samoa

8. Overview of the precious coral resource in American Samoa

9. Comprehensive SFA amendment revisions

A. Overfishing provisions

B. Public hearing on overfishing definitions

In 1998, the Council submitted a comprehensive amendment to all the Council’s fishery management plans, which was generated in response to the 1996 re-authorization of the Magnuson-Stevens Fishery Conservation and Management Act (Magnuson-Stevens Act). The section of this amendment on the maximum sustainable yield and overfishing reference control rules for bottomfish, crustaceans and pelagics was disapproved by NMFS. The Council has addressed NMFS’ concerns about this disapproved section of the original comprehensive amendment and will solicit public comment prior to taking final action.

10. Observer Program

A. NMFS PIAO

(i) American Samoa

(ii) Bottomfish

(iii) Hawaii longline

B. Native Observer Program

11. Guest Speakers:

A. Future of the American Samoa Canneries

B. South Pacific Environmental Program

(i) overview of the program

(ii) sea turtle conservation

12. Pelagic Fisheries

A. 1st quarter 2002 Hawaii and American Samoa longline reports

B. American Samoa longline fishery

(i) limited entry program

(ii) public hearing

The Council will hold a public hearing on the preferred alternative for a limited entry program for the American Samoa longline fishery, and may take final action on this management measure. The number of fishing vessels participating in the American Samoa longline fishery doubled in 2001, and the level of fishing effort in terms of hooks set quadrupled. The new entrants comprised mainly large conventional longliners which are fifty feet or larger, as opposed to the small 30-40 ft (9.144-12.192 m) outboard-powered alia-catamarans with hand deployed longline gear with which the American Samoa fishery originated. In 2002 at the Council’s request, NMFS implemented a 50 nm-area closure around the American Samoa islands that generally excludes all fishing vessels larger than 50 ft (15.2 m). However there are concerns about unconstrained entry of fishing vessels into the American Samoa fishery. Unlike Hawaii, fishing vessels in the American Samoa fishery are confined to fishing within the exclusive economic zone, and gear conflict and competition for resources are likely to increase as the level of fishing increases. Consequently, the Council intends to select a preferred alternative for a limited entry program for the fishery, and wishes to solicit public comment prior to making a decision on whether to proceed with transmittal of the measure to NMFS for review and approval.

C. Annual report modules

D. Seabird conservation and management

E. Litigation

F. Sea turtle conservation and management

(i) Sea turtle resource around American Samoa

(ii) Status of new Biological Opinion

(iii) Report from International Leatherback Survival Conference

G. Redrafting of Amendment 9 to the Pelagic Fishery Management Plan for shark management measures

H. International meetings

(i) Tuna Treaty

(ii)Second International Fishers Forum

I. Pelagic Fisheries Research Program new projects

13. Bottomfish Fisheries

A. Status of American Samoa fishery

B. NWHI Framework Action: adjustment to landing requirements

C. Status of Biological Opinion and Draft Environmental Impact Statement

D. Annual report modules

E. Public hearing

The Council will consider an amendment to its Fishery Management Plan for Bottomfish and Seamount Groundfish Fisheries of the Western Pacific Region to modify the annual landing requirements for permit renewal and prohibitions on the lease and charter of permits from the NWHI Ho’omalu and Mau zone management regimes. The Council expects that these adjustments will best address the key objectives to maintain opportunities for small scale fisheries, maintain availability of high-quality fresh bottomfish, and balance harvest capacity with harvestable fishery stocks. Given the uncertainty of the future management of these fisheries due to the establishment of the NWHI Coral Reef Reserve and the pending National Marine Sanctuary designation, the Council will consider final action on suspending the permit renewal requirements until the sanctuary designation process is complete.

14. Fishery rights of indigenous peoples

A. Marine conservation plans

B. Report on Community demonstration projects program

C. Community development program

15. Program planning

A. Funding

B. Sea turtle cooperative research and management workshop

C. NMFS cooperative research

D. Council/NMFS long term research planning for the Western Pacific Region

E. New NMFS Pacific Island Region structure

F. Joint working group

G. Education initiatives

16. Ecosystems and Habitat

A. Report on the status of the Coral Reef Ecosystems Fishery Management Plan

B. American Samoa Rapid Assessment and Mapping Project

C. Marine Protected Area Policy Working Group report

D. Reef fish stock assessment and ecosystem management workshop

E. Invasive Species

F. Essential fish habitat mapping and designations

17. Administrative Matters

A. Financial reports

B. Administrative report

C. Meetings and workshops

Other Business

Although non-emergency issues not contained in this agenda may come before the Council for discussion, those issues may not be the subject of formal Council action during this meeting. Council action will be restricted to those issues specifically listed in this document and to any issue arising after publication of this document that requires emergency action under section 305(c) of the Magnuson-Stevens Act, provided that the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to the meeting date.

Authority: 16 U.S.C. 1801 et seq.

Dated: June 3, 2002.
John H. Dunnigan,
Director, Office of Sustainable Fisheries, National Marine Fisheries Service.

[FR Doc. 02-14362 Filed 6-6-02; 8:45 am]

BILLING CODE 3510-22-S